ENVIRONMENTAL PROTECTION AGENCY

[FRL-8300-6]

Clean Air Act Advisory Committee (CAAAC): Notice of Meetings and Clean Air Excellence Award Ceremony

AGENCY: Environmental Protection Agency.

ACTION: Notice of meeting.

SUMMARY: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

DATES & ADDRESSES: Open meeting notice; Pursuant to 5 U.S.C. App. 2 Section 10(a)(2), notice is hereby given that the Clean Air Act Advisory Committee will hold its next open meeting on Wednesday May 9 from 3 p.m. to 5 p.m. at the National Museum of the American Indian in Washington DC and on Thursday, May 10, 2007, from approximately 8:30 a.m. to 4:30 p.m. at the DoubleTree Hotel at 300 Army Navy Drive, in Arlington, Virginia. Seating will be available on a first come, first served basis. The Air Quality Management subcommittee will meet on May 9, 2007 from approximately 9:30 a.m to 11:30 p.m. The Permits, New Source Review and Toxics subcommittee will meet on May 9, 2007 from approximately 12 p.m. to 2 p.m. These meetings will also be at the Double Tree Hotel. The Economic Incentives and Regulatory Innovations subcommittee and The Mobile Source Technical Review subcommittee will not meet at this time. There will be a special Tribal Air Quality Forum and the 7th annual Clean Air Excellence Awards program on May 9, 2007 at the National Museum of American Indian. The Tribal Air Quality Forum will start approximately at 3 p.m. and finishing at 5 p.m. The Clean Air Excellence Awards program will start at 6:30 p.m. and end at 8:30 p.m. The agenda for the CAAAC full committee meeting, Tribal Air Quality Forum and Clean Air Excellence Awards will be posted on the CAAAC Web site: http://www.epa.gov/oar/caaac/.

Inspection of Committee Documents: The Committee agenda and any documents prepared for the meeting will be publicly available at the meeting. Thereafter, these documents, together with CAAAC meeting minutes, will be available by contacting the Office of Air and Radiation Docket and requesting information under docket OAR-2004-0075. The Docket office can be reached by telephoning 202-260-7548; FAX 202-260-4400.

FOR FURTHER INFORMATION CONTACT: Concerning the CAAAC, please contact Pat Childers, Office of Air and Radiation, U.S. EPA (202) 564-1082, FAX (202) 564-1352 or by mail at U.S. EPA, Office of Air and Radiation (Mail code 6102 A), 1200 Pennsylvania Avenue, NW., Washington, DC 20004. For information on the Subcommittees and Awards Program, please contact the following individuals: (1) Permits/NSR/Toxics Integration—Debbie Stackhouse, (919) 541-5354; and (2) Air Quality Management—Jeff Whitlow, (919) 541-5523 (3) Economic Incentives and Regulatory Innovations—Carey Fitzmaurice, (202)564-1667 (4) Mobile Source Technical Review—John Guy, (202) 343-9276 (5) Clean Air Excellence Award Program—Pat Childers at (202) 564-1082. Additional Information on these meetings, CAAAC, its Subcommittees and the awards program can be found on the CAAAC Web site: http://www.epa.gov/oar/caaac/.

For information on access or services for individuals with disabilities, please contact Mr. Pat Childers at (202) 564-1082 or childers.pat@epa.gov. To request accommodation of a disability, please contact Mr. Childers, preferably at least 10 days prior to the meeting, to give EPA as much time as possible to process your request.

Dated: April 12, 2007.
Pat Childers,
Designated Federal Official, Clean Air Act Advisory Committee, Office of Air and Radiation.

[FR Doc. E7-7275 Filed 4-16-07; 8:45 am]

BILLING CODE 6560-50-P